DEPARTMENT OF THE INTERIOR

Bureau of Indian Affairs

Tribal Consultation on Proposed Revisions to 25 CFR Parts 81 & 82

AGENCY: Bureau of Indian Affairs.

ACTION: Notice of an additional tribal consultation meeting.

SUMMARY: Notice is hereby given that the Bureau of Indian Affairs (BIA) will conduct another consultation meeting with Indian tribes reorganized under the Indian Reorganization Act (IRA) and the Oklahoma Indian Welfare Act, and other interested tribal leaders, to obtain oral and written comments concerning the potential revision of regulations at 25 CFR part 81, Tribal Reorganization under a Federal Statute, and 25 CFR part 82, Petitioning Procedures for Tribes Reorganized Under Federal Statute and Other Organized Tribes. In addition to the locations listed in the Federal Register of November 12, 2009, in FR Doc. E9-27181, page 58310, the BIA will conduct a consultation meeting with Indian tribes in Albuquerque, New Mexico.

DATE: February 4, 2010 in Albuquerque, New Mexico. See the SUPPLEMENTARY INFORMATION section of this notice for more details.

FOR FURTHER INFORMATION CONTACT: Elizabeth Colliflower, Tribal Relations Specialist, Division of Tribal Government Services, 1849 C Street, NW., Mail Stop 4513-MIB, Washington, DC; Telephone (202) 513-7641; Fax (202) 501-0679.

SUPPLEMENTARY INFORMATION:

I. Background

Notice was published in the Federal Register on November 12, 2010, that the BIA would conduct five tribal consultation meetings on the BIA draft revisions to 25 CFR part 81 and 25 CFR part 82. The background described in the Notice reads:

In 1992, the BIA drafted revisions to 25 CFR part 81 and 25 CFR part 82 and held four consultation sessions. The BIA received comments and recommendations that are now in the current draft version. The current draft version also:

• Incorporates the amendments made to section 16 of the IRA, 25 U.S.C. 476 (48 Stat. 984), as amended by the Act of November 1, 1988 (Pub. L. 100-581, 102 Stat. 2938), which established time frames within which the Secretary of the Interior must call and conduct Secretarial elections;

• Reflects the amendments made to section 17 of the IRA by the Act of May 24, 1990 (Pub. L. 101-301, 104 Stat. 207) under which additional tribes may petition for charter of incorporation and removes the requirement of a Secretarial election to ratify new charters;

• Reflects the addition of two new subsections to section 16 of the IRA by the Technical Corrections Act of 1994 (Pub. L. 103-363, 108 Stat. 707), which eliminates distinctions between Indians reorganized as historical tribes and those reorganized as communities of adult Indians;

• Includes language clarifying that an IRA tribe may amend its constitution to remove Secretarial approval of future amendments as indicated by the new subsection to Section 16 of the IRA with the enactment of the Native American Technical Corrections Act of 2004 (Pub. L. 106-179, 118 Stat. 453);

• Provides guidelines for the approval or disapproval of charters by the Secretary; and

• Corrects demonstrated weaknesses and clarifies confusing language in the existing regulations.

A consultation booklet containing the current draft version of the rule will be available for the meetings and will be distributed to federally recognized Indian tribes and BIA regional and agency offices.

II. Meeting Details

The additional final Tribal consultation meeting will be held on February 4, 2010 at the Bureau of Indian Affairs national Indian Programs Training Center, 1011 Indian School Rd., NW., Room 271, Albuquerque, New Mexico, from 9 a.m.-4:00 p.m. (local time).

Dated: December 28, 2009.
Larry Echo Hawk,
Assistant Secretary—Indian Affairs.

[FR Doc. 2010-164 Filed 1-8-10; 8:45 am]

BILLING CODE 4310-WP-P